COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add a product and services to the Procurement List that will be furnished by nonprofit agencies employing persons who are blind or have other severe disabilities, and deletes products and services previously furnished by such agencies.

Comments must be received on or before: July 2, 2017.

ADDRESSES: Committee for Purchase from People Who are Blind or Severely Disabled, 1401 S. Clark Street, Suite 715, Arlington, Virginia 22202-4149.

FOR FURTHER INFORMATION OR TO SUBMIT COMMENTS CONTACT: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

The following product and services are proposed for addition to the Procurement List for production by the nonprofit agencies listed:

Product

NSN(s)—Product Name(s): MR 13008—Melon Baller.

Mandatory Source(s) of Supply: Cincinnati Association for the Blind, Cincinnati, OH.

Mandatory for: The requirements of military commissaries and exchanges in accordance with the Code of Federal Regulations, 41 CFR 51-6.4.

Contracting Activity: Defense Commissary Agency.

Distribution: C-List

Services

Service Type: Custodial Service.

Mandatory for: National Park Service, Golden Gate National Recreation Area, Fort Mason, Buildings 101, 201 and 204, San Francisco, CA.

Mandatory Source(s) of Supply: Toolworks, Inc., San Francisco, CA.

Contracting Activity: Department of the Interior, National Park Service.

Service Type: Individual Equipment Elements (IEE) Store Service.

Mandatory for: US Air Force, Elmendorf AFB, 10480 Sijan Avenue, Joint Base Elmendorf-Richardson, AK.

Mandatory Source(s) of Supply: RLCB, Inc., Raleigh, NC.

Contracting Activity: Dept of the Air Force, FA5000 673 CONS LGC

Service Type: Dispenser Machine Support Service

Mandatory for: US Navy, Naval Medical Center San Diego, 34800 Bob Wilson Drive, San Diego, CA

Mandatory Source(s) of Supply: Job Options, Inc., San Diego, CA

Contracting Activity: Dept of the Navy, Naval Medical Center

Deletions

The following products and services are proposed for deletion from the Procurement List:

Products

NSN(s)—Product Name(s):

FS1349B—Windbreaker, SCSEP, Forest Service, Dark/Green/Pantone, Various Sizes

FS509A—Vest, Forest Service, SCSEP, Various Sizes

FS240—Jeans, Field, Forest Service, Men's, Various Sizes

FS400—Pants, Field, Forest Service, Men's, Dark Green/Pantone, Wool, Various Sizes

FS326—Cap, Baseball, Forest Service, Dark Green/Pantone, Nylon Mesh, Various Sizes

FS521—Cap, SCSEP, Forest Service, Dark Green/Pantone, Nylon Mesh, Various Sizes

FS9552—Patches, Volunteer, Forest Service, Pkg. of 10

FS875—Nameplate, Forest Service, Law Enforcement, Gold Plated

8455-00-NSH-0012—Patches, Volunteer, Forest Service, Pkg. of 10

8455-00-NSH-0022—Nameplate, Forest Service, Law Enforcement, Gold Plated

8455-00-NSH-0023—Patch, Forest Service, Law Enforcement, Large

8455-00-NSH-0024—Patch, Forest Service, Law Enforcement, Small

Mandatory Source(s) of Supply: Human Technologies Corporation, Utica, NY

Contracting Activity: Department Of Agriculture, Washington Office

Services

Service Type: Grounds Maintenance Service

Mandatory for:

Eglin Air Force Base: Duke Field, Eglin, FL

Eglin Air Force Base: East of Memorial Trail (excluding the airfield), Eglin, FL

Eglin Air Force Base: Navy EOD, Eglin, FL

Eglin Air Force Base: Ranger Camp, Eglin, FL

Eglin Air Force Base: Site C-6, Eglin, FL

Mandatory Source(s) of Supply: PRIDE Industries, Roseville, CA

Contracting Activity: Dept of the Air Force, FA2823 AFTC PZIO

Amy B. Jensen,
Director, Business Operations.

[FR Doc. 2017-11468 Filed 6-1-17; 8:45 am]

BILLING CODE 6353-01-P